DEPARTMENT OF TRANSPORTATION

Federal Aviation Administration

14 CFR Part 71

[Docket No. FAA-2017-0346; Airspace Docket No. 17-AAL-2]

RIN 2120-AA66

Amendment of Class E Airspace; Cordova, AK

AGENCY: Federal Aviation Administration (FAA), DOT.

ACTION: Final rule.

SUMMARY: This action modifies the Class E surface area airspace and the Class E airspace extending upward from 700 feet and 1,200 feet above the surface of the earth at Merle K (Mudhole) Smith Airport, Cordova, AK, eliminates references to the Glacier River Non-Directional Beacon (NDB) and updates the Airport's geographic coordinates to match the FAA's current aeronautical database. This action supports Instrument Flight Rules (IFR) operations under standard instrument approach and departure procedures in the National Airspace System.

DATES: Effective 0901 UTC, December 31, 2020. The Director of the Federal Register approves this incorporation by reference action under Title 1 Code of Federal Regulations Part 51, subject to the annual revision of FAA Order 7400.11 and publication of conforming amendments.

ADDRESSES: FAA Order 7400.11E, Airspace Designations and Reporting Points, and subsequent amendments can be viewed online at https://www.faa.gov/air_traffic/publications/. For further information, you can contact the Airspace Policy Group, Federal Aviation Administration, 800 Independence Avenue SW, Washington, DC 20591; telephone: (202) 267-8783. The Order is also available for inspection at the National Archives and Records Administration (NARA).

For information on the availability of FAA Order 7400.11E at NARA, email fedreg.legal@nara.gov or go to https://www.archives.gov/federal-register/cfr/ibr-locations.html.

FOR FURTHER INFORMATION CONTACT: Richard Roberts, Federal Aviation Administration, Western Service Center, Operations Support Group, 2200 S. 216th Street, Des Moines, WA 98198; telephone (206) 231-2245.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the Agency's authority. This rulemaking is promulgated under the authority described in Subtitle VII, Part A, Subpart I, Section 40103. Under that section, the FAA is charged with prescribing regulations to assign the use of airspace necessary to ensure the safety of aircraft and the efficient use of airspace. This regulation is within the scope of that authority as it modifies Class E surface area airspace and Class E airspace extending upward from 700 feet and 1,200 feet above the surface of the earth at Merle K (Mudhole) Smith Airport, Cordova, AK, in support of IFR operations.

History

The FAA published a notice of proposed rulemaking in the Federal Register (85 FR 35229; June 9, 2020) for Docket No. FAA-2017-0346 to modify Class E airspace at Merle K (Mudhole) Smith Airport, Cordova, AK, in support of IFR operations at the airport. Interested parties were invited to participate in this rulemaking effort by submitting written comments on the proposal to the FAA. No comments were received.

Class E airspace designations are published in paragraph 6005 of FAA Order 7400.11E, dated July 21, 2020, and effective September 15, 2020, which is incorporated by reference in 14 CFR 71.1. The Class E airspace designation listed in this document will be published subsequently in the Order.

Availability and Summary of Documents for Incorporation by Reference

This document amends FAA Order 7400.11E, Airspace Designations and Reporting Points, dated July 21, 2020, and effective September 15, 2020. FAA Order 7400.11E is publicly available as listed in the ADDRESSES section of this document. FAA Order 7400.11E lists Class A, B, C, D, and E airspace areas, air traffic service routes, and reporting points.

The Rule

The FAA is amending 14 CFR part 71 by modifying the Class E surface area and Class E airspace extending upward from 700 and 1,200 feet AGL at Merle K (Mudhole) Smith Airport, Cordova, AK. The FAA completed an airspace review after the airport was identified as having Class E airspace established, in error, beyond 12 nautical miles from the shoreline. This action modifies the Class E airspace extending upward from the surface by removing that airspace 3.2 miles northwest and 2.1 miles southeast of the 222° bearing from the Glacier River NDB extending 10 miles southwest of the airport. This action also removes the airspace 2 miles each side of the 124° bearing from the Glacier River NDB extending 10.4 miles southeast of the airport. This airspace is no longer needed because of the implementation of Area Navigation (RNAV) approaches to Runways 27 and 09. In addition, this action modifies that airspace 2 miles each side of the 115° bearing to 1 mile each side of the 113° bearing from the airport extending 5.5 miles southeast of the airport. This modification provides protection for aircraft descending to 1,000 feet on the Instrument Landing System (ILS) approach to Runway 27.

The Class E airspace extending upward from 700 feet above the surface is modified to that airspace within 6.6 miles of the airport from the point that the 82° bearing intersects the 6.6-mile radius clockwise to the point that the 309° bearing intersects the 6.6-mile radius, and includes that airspace 2 miles each side of the 113° bearing extending 16 miles southeast of the airport. This area protects aircraft on departure until reaching 1,200 feet AGL and aircraft as they descend through 1,500 feet on the ILS approach to Runway 27.

The airspace extending upward from 1,200 feet above the surface is reduced to within 20 miles of the airport to provide protection for aircraft above 1,500 feet AGL while transitioning to the enroute environment.

The reference in the legal description to the Glacier River NDB is removed as the airspace is being redesigned without the use of this reference. In addition, this action updates the geographic coordinates of the airport to match the FAA's current aeronautical database. This action supports IFR operations under standard instrument approach and departure procedures in the National Airspace System.

FAA Order 7400.11, Airspace Designations and Reporting Points, is published yearly and effective on September 15.

Regulatory Notices and Analyses

The FAA has determined that this regulation only involves an established body of technical regulations for which frequent and routine amendments are necessary to keep them operationally current, is non-controversial and unlikely to result in adverse or negative comments. It, therefore: (1) Is not a “significant regulatory action” under Executive Order (E.O.) 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, will not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for Part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11E, Airspace Designations and Reporting Points, dated July 21, 2020, and effective September 15, 2020, is amended as follows:

Paragraph 6002 Class E Airspace Areas Designated as Surface Areas.

* * * * *

AAL AK E2 Cordova, AK [Modified]

Merle K (Mudhole) Smith, AK

(Lat. 60°29′30″ N, long. 145°28′39″ W)

That airspace within a 4.1-mile radius of the Merle K (Mudhole) Smith Airport beginning at a point where the 69° bearing from the Airport intersects the 4.1-mile radius clockwise to a point where the 322° bearing from the Airport intersects the 4.1-mile radius, thence to the point of beginning and within 1 mile each side of the 113° bearing from the Airport extending from the 4.1-mile radius to 5.5 miles southeast of the Airport.

Paragraph 6005 Class E Airspace Areas Extending Upward From 700 Feet or More Above the Surface of the Earth.

* * * * *

AAL AK E5 Cordova, AK [Modified]

Merle K (Mudhole) Smith, AK

(Lat. 60°29′30″ N, long. 145°28′39″ W)

That airspace within a 6.6-mile radius of the Merle K (Mudhole) Smith Airport, beginning where the 82° bearing from the Airport intersects the 6.6-mile radius clockwise to the point where the 309° bearing intersects the 6.6-mile radius, thence to the point of beginning and that airspace 2 miles each side of the 113° bearing from the Airport extending from the 6.6-mile radius to 16 miles southeast from the airport, and that airspace extending upward from 1,200 feet above the surface within a 20-mile radius of the airport, excluding that airspace more than 12 miles from the shoreline.

Issued in Seattle, Washington, on September 8, 2020.
Byron Chew,
Acting Group Manager, Operations Support Group, Western Service Center.

[FR Doc. 2020-20229 Filed 9-14-20; 8:45 am]

BILLING CODE 4910-13-P